DEPARTMENT OF ENERGY

Federal Energy Regulatory Commission

[Project No. 2219-020—Utah]

Garkane Energy Cooperative, Inc.; Notice of Availability of Final Environmental Assessment

May 4, 2007.

In accordance with the National Environmental Policy Act of 1969 and the Federal Energy Regulatory Commission's (Commission) regulations, 18 CFR Part 380 (Order No. 486, 52 FR 47897), the Office of Energy Projects has reviewed the application for new license for the Boulder Creek Hydroelectric Project, located on Boulder Creek in Garfield County, Utah, and has prepared a final Environmental Assessment (EA) for the project. The project occupies 29.59 acres of Federal land, administered by the U.S. Forest Service as part of the Dixie National Forest.

The final EA contains the staff's analysis of the potential environmental impacts of the project and concludes that issuing a new license for the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Dianne Rodman at (202) 502-6077.

Kimberly D. Bose,
Secretary.

[FR Doc. E7-8972 Filed 5-9-07; 8:45 am]

BILLING CODE 6717-01-P